DEPARTMENT OF THE INTERIOR

Bureau of Land Management

[PO #4820000251]

BLM Director's Response to the Appeals by the Governors of California and Utah of the BLM State Director's Governor's Consistency Review Determination for Utility-Scale Solar Energy Development Resource Management Plan Amendments, Also Known as the Updated Western Solar Plan

AGENCY: Bureau of Land Management, Interior.

ACTION: Notice of response.

SUMMARY: The Bureau of Land Management (BLM) is publishing this notice of the reasons for the BLM Principal Deputy Director's determination to reject the recommendations of the Governors of California and Utah regarding the Utility-Scale Solar Energy Development Resource Management Plan Amendments (RMPAs).

ADDRESSES: A copy of the Record of Decision (ROD) and RMPAs for Utility-Scale Solar Energy Development are available on the BLM website at: https://eplanning.blm.gov/public_projects/2022371/200538533/20125356/251025336/Solar%20PEIS%20ROD_Vol%201_Final%2012.19.2024.pdf.

FOR FURTHER INFORMATION CONTACT: Heather Bernier, Division Chief for Decision Support, Planning, and National Environmental Policy Act; telephone 303-239-3635; address P.O. Box 151029, Lakewood, CO 80215; email hbernier@blm.gov. Individuals in the United States who are deaf, deafblind, hard of hearing, or have a speech disability may dial 711 (TTY, TDD, or TeleBraille) to access telecommunications relay services for contacting Ms. Bernier. Individuals outside the United States should use the relay services offered within their country to make international calls to the point-of-contact in the United States.

SUPPLEMENTARY INFORMATION: On August 30, 2024, the BLM released the Final Programmatic Environmental Impact Statement (PEIS) and Proposed Resource Management Plan Amendments (RMPAs) for Utility-Scale Solar Energy Development (89 FR 70660). In accordance with the regulations at 43 CFR 1610.3-2(e), the BLM submitted the Proposed RMPAs for Utility-Scale Solar Energy Development to the Governors of Arizona, California, Colorado, Idaho, Montana, Nevada, New Mexico, Oregon, Utah, Washington, and Wyoming for a 60-day review to identify any inconsistencies with State or local plans, policies, or programs.

The Governors of California, Idaho, Montana, Nevada, New Mexico, Oregon, Utah, and Wyoming submitted a response regarding the Proposed RMPAs for Utility-Scale Solar Energy Development to the relevant BLM State Directors. After careful consideration of the concerns raised by the Governors, the relevant State Directors decided not to adopt the recommendations made by the Governors and sent a written response to each respective Governor.

The applicable regulations at 43 CFR 1610.3-2(e) provide these Governors with the opportunity to appeal the State Director's decision to not accept the recommendations made in the respective consistency review letters. The Governors of California and Utah appealed the respective State Director's decisions to the BLM Director. In reviewing these appeals, the regulations at 43 CFR 1610.3-2(e) state that “[t]he Director shall accept the [consistency] recommendations of the Governor(s) if he/she determines they provide for a reasonable balance between the national interest and the State's interest.”

On December 19, 2024, the BLM Principal Deputy Director issued a response to each Governor detailing the reasons that the recommendations did not meet this standard. Each appeal response letter provides the basis for the BLM's determination on the respective Governor's appeal (pursuant to 43 CFR 1610.3-2(e)). The appeal responses are being published verbatim.

California

On August 30, 2024, the Bureau of Land Management (BLM) released the Final Programmatic Environmental Impact Statement and Proposed Resource Management Plan Amendments (RMPA) for Utility-Scale Solar Energy Development. In accordance with the regulations at 43 CFR 1610.3-2(e), the BLM submitted the Proposed RMPAs for Utility-Scale Solar Energy Development to the Governors of Arizona, California, Colorado, Idaho, Montana, Nevada, New Mexico, Oregon, Utah, Washington, and Wyoming for a 60-day review to identify any inconsistencies with State or local plans, policies, or programs.

A representative from the California Governor's Office of Land Use and Climate Innovation submitted a response regarding the Proposed RMPAs for Utility-Scale Solar Energy Development to the BLM California State Director. After careful consideration of the concerns you raised, the BLM California State Director Joseph Stout decided not to adopt the recommendations you made and sent you a written response detailing why.

The applicable regulations at 43 CFR 161-3-2(e) provide you with the opportunity to appeal the State Director's decision to not accept the recommendations you made in your consistency review letter. These regulations also guide my review of the appeal, in which I must consider whether you have raised actual inconsistencies with State or local plans, polices, and or programs. To the extent inconsistencies are raised, I then consider whether your recommendations address the inconsistencies and provide for a reasonable balance between the national interest and your State's interest. In reviewing your appeal, the regulations at 43 CFR 1610.3-2(e) state that “[t]he Director shall accept the [consistency] recommendations of the Governor(s) if he/she determines they provide for a reasonable balance between the national interest and the State's interest.”

This letter addresses your appeal of the response provided by the BLM California State Director regarding your consistency review of the Proposed RMPAs for Utility-Scale Solar Energy Development. The Governor's consistency review is an important part of the BLM land use planning process, and we appreciate the significant time and attention that you and your staff have committed to this effort.

I have completed my review of your appeal and determined that the recommendations you have provided do not meet the standard described above for the following reasons.

In your appeal, you raise a concern that the reduction in public land available for solar development in southern Nevada will reduce the potential for solar generation and transmission development that the State of California has planned on to meet its energy needs. You suggest that if the BLM approves the proposed RMPAs, certain transmission upgrades may become stranded assets and the California Public Utilities Commission (CPUC) would need to update its assumptions about administration of public lands in the area because the CPUC's integrated resource planning process has traditionally assumed the availability of land in southern Nevada consistent with the BLM's 2012 Western Solar Plan. You recommend that BLM reconsider the exclusion criterion for habitat for species protected under the Endangered Species Act, which applies in some areas in southern Nevada.

Although the BLM California State Director responded to the concerns in your consistency letter to clarify aspects of the proposed RMPAs, I find that you have not identified a specific inconsistency with an approved or adopted State or local plan, policy, or program. While you express concern that the proposed RMPAs could harm solar development, you do not identify specific elements of State plans or policies that conflict with the proposed RMPAs and potential effects are speculative. To the extent you are concerned about the continued viability of solar projects that are already under construction or where applications are under review by the BLM, the proposed RMPAs include provisions designed to reduce disruption during the transition between plans by limiting the effect of the proposed RMPAs on some pending applications. Therefore, the potential impact of the proposed RMPAs on California's energy planning process is speculative, and the present appeal does not identify a specific inconsistency.

In your appeal you recommend that the BLM remove the exclusion for certain habitat for species protected under the Endangered Species Act from the proposed RMPAs, at least as it applies in southern Nevada. You recommend that the BLM instead protect habitat through the consultation process under Section 7 of the Endangered Species Act on an individual project basis. While you did not make this recommendation in your original consistency letter, the BLM State Director's response explained the BLM's rationale for the habitat exclusion. The BLM conducted programmatic consultations with the U.S. Fish and Wildlife Service and National Marine Fisheries Service to evaluate the potential impacts of the proposed RMPAs on species protected under the Endangered Species Act, and the habitat exclusion areas were developed as part of that consultation. The BLM agrees that Section 7 consultation will be required on a project-specific basis, but there is a Federal interest—and obligation under the Endangered Species Act—to consider impacts to species at the planning level. I find that eliminating the habitat exclusion in southern Nevada is not a reasonable balance of the national interest in protecting species habitat and the State's interest in facilitating solar projects. Exclusion based on the criteria identified in the proposed RMPAs promotes balance between renewable energy development and protection of important ecological, cultural, and other resources in accordance with the Federal Land Policy and Management Act's direction to manage the public lands under principles of multiple use and sustained yield.

I have found that no changes to the proposed updated Western Solar Plan are necessary in response to your appeal as it does not identify inconsistencies with any approved or adopted State or local plans, policies, or programs and does not provide for a reasonable balance between the State's interest and the national interest (43 CFR 1610.3-2(e)).

Utah

On August 30, 2024, the Bureau of Land Management (BLM) released the Final Programmatic Environmental Impact Statement and Proposed Resource Management Plan Amendments (RMPA) for Utility-Scale Solar Energy Development. In accordance with the regulations at 43 CFR 1610.3-2(e), the BLM submitted the Proposed RMPAs for Utility-Scale Solar Energy Development to the Governors of Arizona, California, Colorado, Idaho, Montana, Nevada, New Mexico, Oregon, Utah, Washington, and Wyoming for a 60-day review to identify and inconsistencies with State or local plans, polices, or programs.

You submitted a response regarding the Proposed RMPAs for Utility-Scale Solar Energy Development to the BLM Utah State Director. After careful consideration of the concerns you raised, the BLM Acting Utah State Director Matthew Preston decided not to adopt the recommendations you made and sent you a written response detailing why.

The applicable regulations at 43 CFR 1610.3-2(e) provide you with the opportunity to appeal the State Director's decision to not accept the recommendations you made in your consistency review letter. These regulations also guide my review of the appeal, in which I must consider whether you have raised actual inconsistencies with State or local plans, policies, and or programs. To the extent inconsistencies are raised, I then consider whether your recommendations address the inconsistencies and provide for a reasonable balance between the national interest and your State's interest. In reviewing your appeal, the regulations at 43 CFR 161-.3-2(e) state the “[t]he Director shall accept the [consistency] recommendations of the Governor(s) if he/she determines they provide for a reasonable balance between the national interest and the State's interest.”

This letter addresses your appeal of the response provided by the BLM Acting Utah State Director regarding your consistency review of the Proposed RMPAs for Utility-Scale Solar Energy Development. The Governor's consistency review is an important part of the BLM land use planning process, and we appreciate the significant time and attention that you and your staff have committed to this effort.

I have completed my review of your appeal and determined that the recommendations you have provided do not meet the standards described above for the following reasons.

In your appeal, you identify the following three issues: (1) the potential for conflicts between solar and geothermal energy development; (2) concern about the extent of available areas relative to the BLM's reasonably foreseeable development scenario; and (3) alleged conflicts between solar energy development and the treatment of livestock grazing under Utah's and Beaver County's Resource Management Plans. To address these issues and alleged inconsistencies, it is your recommendation that the BLM withdraw and reconsider the proposed updated Western Solar Plan.

Potential Conflicts Between Solar and Geothermal Energy Development

I have considered your concerns about potential conflicts between solar and geothermal energy development but find that you have not identified an inconsistency with any approved or adopted State or local plan, policy, or program. You explain in your appeal that the Utah Energy Policy emphasizes a diverse energy portfolio. The proposed updated Western Solar Plan appropriately balances the potential for development from both solar and geothermal sources of energy. First of all, where a current geothermal lease already exists, no solar right-of-way (ROW) may be issued that would interfere with the grantee's use of the public lands consistent with the terms and conditions of the geothermal lease. Where a solar project is proposed in an area with geothermal potential but no existing ROW, the BLM will assess the best use of the land subject to the proposal. In evaluating solar project applications, the BLM will consider and address the impacts of utility-scale solar development on the ability to exploit geothermal resources. I decline to adopt your recommendation that the BLM include a separate planning-level exclusion of lands with potential geothermal resources in the proposed RMPAs because it does not address an identified inconsistency with a Utah plan, and it is not prudent or necessary in light of the presence of further review at the implementation stage.

Extent of Lands Available

I have considered your concerns about the extent of lands available under the proposed updated Western Solar Plan but find that you have not identified an inconsistency with any approved or adopted State or local plan, policy, or program. Further, the BLM is proposing to identify an appropriate number of acres of public lands as available, both in Utah and the broader planning area for this effort. It is true that the scope of available areas goes well beyond the acreage that the BLM anticipates will be developed in fact based on the reasonably foreseeable development scenario (RFDS), but that approach to land allocation and management is appropriate. The proposed updated Western Solar Plan identifies over 5 million acres in Utah as available for future solar projects, whereas the RFDS estimates that slightly less than 40,000 acres of development is expected to occur in Utah by 2045. It is appropriate for broad-scale planning efforts to make orders-of-magnitude more lands available for a given use than the RFDS estimates would be put to that use. Complexity and controversy involved in navigating technical challenges, environmental concerns, community interests, and other potential uncertainties involved in the deliberative permitting process make that approach prudent. Making significantly more acres available than the BLM estimates will be developed will help to ensure solar projects are not only sited for feasibility and legal compliance but also in a way that is environmentally responsible and works for local communities. The fact that more lands are allocated as available than the RFDS suggests will be developed in fact does not represent an inconsistency with the Utah plans identified in your appeal, and I therefore decline to adopt your recommendation to make the proposed RMPAs commensurate with the RFDS.

Alleged Inconsistency With Treatment of Livestock Grazing Under State and County Plans

The proposed updated Western Solar Plan appropriately balances use of the public lands for solar energy development and use of the public lands for livestock grazing, in keeping with the BLM's obligation to manage the public lands under principles of multiple use and sustained yield. As your appeal recognizes, the proposed updated Western Solar Plan would not approve any solar project or result in the reduction of authorized unit months (AUM) associated with public land livestock grazing permits or leases in Utah. A future decision to issue a ROW for solar development within a grazing allotment would be subject to project-specific review and would need to comply with the applicable grazing regulations and the design features included as part of the proposed updated Western Solar Plan, including those, such as design feature LG-1, designed to minimize conflicts between solar development and grazing. To the extent that the potential for future reductions in AUMs resulting from solar ROW grants represents an inconsistency with the Utah or Beaver County Resource Management Plan, I considered your recommendation to add an exclusion criteria and additional design features related to livestock grazing. This recommendation does not provide for a reasonable balance between the national interest and the State's interest because the BLM has determined that the national interest in supporting use of public land for solar development is incompatible with an exclusion that would make all lands within grazing allotments unavailable.

Conclusion

I have found that no changes to the proposed updated Western Solar Plan are necessary in response to the issues raised in your appeal as they either do not identify inconsistencies with any approved or adopted State or local plans, policies, or programs or do not provide for a reasonable balance between the State's interest and the national interest (43 CFR 1610.3-2(e)).

Nada Wolff Culver,
Principal Deputy Director.

[FR Doc. 2025-00753 Filed 1-14-25; 8:45 am]

BILLING CODE 4331-27-P